DEPARTMENT OF HEALTH AND HUMAN SERVICES

Centers for Disease Control and Prevention

[30Day-20-1158]

Agency Forms Undergoing Paperwork Reduction Act Review

In accordance with the Paperwork Reduction Act of 1995, the Centers for Disease Control and Prevention (CDC) has submitted the information collection request titled, “CDC Ideation Catalyst (I-Catalyst) Program and Customer Engagement Information Collection” to the Office of Management and Budget (OMB) for review and approval. CDC previously published a “Proposed Data Collection Submitted for Public Comment and Recommendations” notice on October 25, 2019 to obtain comments from the public and affected agencies. CDC received one comment. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

CDC Ideation Catalyst (I-Catalyst) Program and Customer Engagement Information Collection (OMB Control No. 0920-1158, Exp. 1/31/2020)—Revision—Office of Science, Centers for Disease Control and Prevention (CDC).

Background and Brief Description

The CDC Office of Technology and Innovation (OTI), located within CDC's Office of Science (OS), fosters innovative science and promotes the testing and implementation of innovative ideas that improve CDC's ability to have public health impact. To arm CDC staff with an expanded skill-set and tools to evaluate and translate their insights and ideas into solutions, CDC developed an experiential innovation curriculum and consultation service called Ideation Catalyst (I-Catalyst). The program was created with the belief that innovation should be customer-driven, based on user research, and enhanced by the engagement of people at all levels of an organization. CDC also obtained OMB approval for a generic clearance to support the collection of information from stakeholders and customers, utilizing I-Catalyst program principles and methodology (CDC I-Catalyst Program, OMB No. 0920-1158, exp. date 1/31/2020).

The goal of the I-Catalyst program and service is to help CDC explore, develop, and test new approaches to solving public health problems through a discovery, ideation, and prototyping process. I-Catalyst offers a process for defining problems and engaging stakeholders that improves the quality, efficiency, and performance of innovative solutions. Through the I-Catalyst process, teams of CDC program representatives, in consultation with OTI, work with stakeholders to define and articulate a problem and to identify potentially effective solutions. Participating teams go through a hypothesis-testing, scientific method of discovery to gather important insights and identify technical or contextual issues associated with defining a problem or implementing a solution. Teams are forced “out of the classroom” to conduct interviews, study customer/stakeholder needs, collect feedback, and find partnership opportunities. Only conversations with potential customers/stakeholders can provide the facts from which hypotheses are proven or disproven about whether a solution (i.e., a product, process, etc.) creates value for the intended customer/stakeholder.

CDC estimates that an average of 10-20 project teams will participate in the I-Catalyst process per year. On average, each team will collect information from approximately 25 customers/stakeholders (a total of 500 respondents per year). Information will be collected primarily through on-site, unstructured interviews with individuals who represent the customers or stakeholders CDC teams are attempting to serve or benefit. CDC may also collect information through telephone interviews, questionnaires, or web-based surveys. The estimated average burden per response may vary from 20-60 minutes, with an average of 30 minutes. Information to be collected includes respondents' perspectives regarding needs, values, and barriers relevant to developing potential solutions.

CDC expects that teams participating in the I-Catalyst process and OTI consultations will be empowered to implement innovative strategies and solutions that create value for their stakeholders. The ultimate goal is to provide CDC staff with real-world, hands-on training and the skills needed to create value-based solutions that benefit society and broaden the agency's impact.

In this Revision request, CDC seeks approval for minor changes to the I-Catalyst generic clearance. (1) The total number of respondents and burden hours will decrease based on participation in the I-Catalyst process during the period 2017-2019. Project-specific estimates will be included with each submission under the I-Catalyst generic clearance. (2) CDC/ATSDR programs may request OTI approval to use the I-Catalyst generic if (a) program representatives completed relevant OTI training in 2017-2019, (b) program representatives participate in relevant OTI training or mentored technical assistance in 2020-2022, or (c) OTI determines that project goals and methodology are consistent with the I-Catalyst process. These changes will allow OTI to make the OMB approval process easier for a broader pool of qualified customer discovery projects. (3) The title of the clearance is being updated to reflect its use by additional CDC/ATSDR project teams approved by OTI.

The I-Catalyst clearance will continue to be used for information collections necessary to explore the needs and preferences of specific stakeholder groups, and to improve the impact of CDC products, programs, and technologies. All projects submitted to OMB for approval under the I-Catalyst generic clearance will be consistent with CDC/OTI goals for promoting scientific innovation and customer engagement in public health.

OMB approval is requested for three years. Participation is voluntary and there are no costs to respondents other than their time. The total estimated annualized burden hours are 250.

Estimated Annualized Burden Hours
Type of respondents | Form name | Number of respondents | Number of responses per respondent | Average burden per response (in hours)
External Partners, Stakeholders, or Customers | Interview Guides, Questionnaires, and Surveys | 500 | 1 | 30/60

Jeffrey M. Zirger,
Lead, Information Collection Review Office, Office of Scientific Integrity, Office of Science, Centers for Disease Control and Prevention.

[FR Doc. 2020-01380 Filed 1-27-20; 8:45 am]

BILLING CODE 4163-18-P